DEPARTMENT OF THE INTERIOR

Bureau of Land Management

[LLCON00000 L10200000.DF0000 LXSS080C0000]

Notice of Public Meeting, Northwest Colorado Resource Advisory Council Meeting

AGENCY: Bureau of Land Management, Interior.

ACTION: Notice of public meeting.

SUMMARY: In accordance with the Federal Land Policy and Management Act and the Federal Advisory Committee Act of 1972, the U.S. Department of the Interior, Bureau of Land Management (BLM) Northwest Colorado Resource Advisory Council (RAC) will meet as indicated below.

DATES: The Northwest Colorado RAC scheduled a meeting from 10 a.m. to 3:00 p.m., Dec. 5, 2013, with a public comment period regarding matters on the agenda at 11:15 a.m. A specific agenda will be available before the meeting at www.blm.gov/co/st/en/BLM_Resources/racs/nwrac.html.

ADDRESSES: The meeting will be held at the Colorado River Valley Field Office, 2300 River Frontage Road, Silt, CO 81652.

FOR FURTHER INFORMATION CONTACT: David Boyd, Public Affairs Specialist, see address above; (970) 876-9008. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Northwest Colorado RAC advises the Secretary of the Interior, through the BLM, on a variety of public land issues in northwestern Colorado.

Topics of discussion during Northwest Colorado RAC meetings may include the BLM National Sage-Grouse Conservation Strategy, working group reports, recreation, fire management, land use planning, invasive species management, energy and minerals management, travel management, wilderness, wild horse herd management, land exchange proposals, cultural resource management and other issues as appropriate.

These meetings are open to the public. The public may present written comments to the RACs. Each formal RAC meeting will also have time, as identified above, allocated for hearing public comments. Depending on the number of people wishing to comment and time available, the time for individual oral comments may be limited.

Dated: October 22, 2013.
John Mehlhoff,
BLM Colorado Acting State Director.

[FR Doc. 2013-25539 Filed 11-4-13; 8:45 am]

BILLING CODE 4310-JB-P